DEPARTMENT OF HEALTH AND HUMAN SERVICES

Administration on Aging

2005 White House Conference on Aging Policy Committee

AGENCY: Administration on Aging, HHS.

ACTION: Notice of meeting.

SUMMARY: Pursuant to Section 10(a) of the Federal Advisory Committee Act as amended (5 U.S.C. Appendix 2), notice is hereby given of the seventh Policy Committee meeting concerning planning for the 2005 White House Conference on Aging. The meeting will be open to the public, with attendance limited to space available. Individuals who plan to attend and need special assistance, such as sign language interpretation or other reasonable accommodations, should inform the contact person listed below in advance of the meeting.

DATES: The meeting will be held Tuesday, September 20, 2005, from 10 a.m. to 4:30 p.m.

ADDRESSES: The meeting will be held in the Atrium Ballroom at The Washington Court Hotel, 525 New Jersey Avenue, NW., Washington, DC 20001-1527.

FOR FURTHER INFORMATION CONTACT: Kim Butcher at (301) 443-2887, or e-mail at Kim.Butcher@whcoa.gov. Registration is not required. Seating is on a first come, first-served basis.

SUPPLEMENTARY INFORMATION: Pursuant to the Older Americans Act Amendments of 2000 (Pub. L. 106-501, November 2000), the Policy Committee will meet to continue discussions and planning for the 2005 WHCoA that will be held from December 11 through 14, 2005. In addition, there will be presentations by Brent Green, President of Brent Green & Associates, Inc., a marketing consulting firm, and author of Marketing to Leading Edge Baby Boomers and David G. Walker, Comptroller General, U.S. Government Accountability Office.

Dated: August 19, 2005.
Edwin L. Walker,
Deputy Assistant Secretary for Policy and Programs.

[FR Doc. 05-16829 Filed 8-23-05; 8:45 am]

BILLING CODE 4154-01-P